DEPARTMENT OF JUSTICE

Drug Enforcement Administration

Anne C. Mason, M.D.; Revocation of Registration

On March 2, 2004, the Deputy Assistant Administrator, Office of Diversion Control, Drug Enforcement Administration (DEA), issued an Order to Show Cause to Anne C. Mason, M.D. (Dr. Mason) who was notified of an opportunity to show cause as to why DEA should not revoke her DEA Certificate of Registration, BM0654005, pursuant to 21 U.S.C. 824(a)(3). Specifically, the Order to Show Cause alleged that Dr. Mason was without state license to handle controlled substances in the State of Alabama. The Order to Show Cause also notified Dr. Mason that should no request for a hearing be filed within 30 days, her hearing right would be deemed waived.

The Order to Show Cause was sent by certified mail to Dr. Mason at her registered location in Hanceville, Alabama, with a copy sent to a second location in Vestavia Hills, Alabama. The order sent to Dr. Mason's address of record was subsequently returned to DEA by the United States Postal Service with a stamped notation: “Undeliverable As Addressed, Forwarding Order Expired.” The order sent to the second location was also returned with a stamped notation: “Attempted, Not Known.” According to the investigative file, DEA personnel have made several attempts to locate Dr. Mason without success. DEA has not received a request for hearing or any other reply from Dr. Mason or anyone purporting to represent her in the matter.

Therefore, the Deputy Administrator of DEA, finding that (1) thirty days having passed since the attempted delivery of the Show Cause to the registrant's address of record. as well as to a second address, and (2) no request for hearing having been received concludes that Dr. Mason is deemed to have waived her hearing right. See David W. Linder, 67 FR 12579 (2002). After considering material from the investigative file in this matter, the Deputy Administrator now enters her final order without a hearing pursuant to 21 CFR 1301.43(d) and (e) and 1301.46.

The Deputy Administrator finds that Dr. Mason is currently registered with DEA as a practitioner authorized to handle controlled substances in Schedules II through V. Contained within the investigative file is an Order dated September 8, 2003, and issued by the Medical Licensure Commission of Alabama (the Commission). The Commission was convened to render a ruling in the matter of an Application to Reinstate License filed by Dr. Mason and subsequent Notice of Intent to Contest Reinstatement and an Administrative Complaint filed by the Alabama State Board of Medical Examiners.

The Commission found that on January 30, 2003, Dr. Mason failed to renew her Alabama medical license for the year 2003, and as a result, that license was revoked by operation of law. The Commission also found that Dr. Mason suffered from opiate abuse and major depression for which she refused or failed to participate in a program for rehabilitation. As a consequence, the Commission concluded that Dr. Mason was unable to practice medicine with “reasonable skill and safety to patients.” As a result of its findings, the Commission denied Dr. Mason's application for reinstatement of her Alabama medical license.

There is no evidence before the Deputy Administrator to rebut findings that Dr. Mason's Alabama medical license has been revoked and has not been reinstated. Therefore, the Deputy Administrator finds that Dr. Mason is currently not authorized to handle controlled substances in Alabama.

DEA does not have statutory authority under the Controlled Substances Act to issue or maintain a registration if the applicant or registrant is without state authority to handle controlled substances in the state in which he conducts business. See 21 U.S.C. 802(21), 823(f) and 824(a)(3). This prerequisite has been consistently upheld. See Richard J. Clement, M.D., 68 FR 12103 (2003); Dominick A. Ricci, M.D., 58 FR 51104 (1993); Bobby Watts, M.D., 53 FR 11919 (1988).

Here, it is clear that Dr. Mason's state medical license has been revoked and there is no information before the Deputy Administrator which points to any reversal of the revocation action. As a result, Dr. Mason is not licensed to handle controlled substances in Alabama, where she is registered with DEA, and therefore, she is not entitled to maintain that registration.

Accordingly, the Deputy Administrator of the Drug Enforcement Administration, pursuant to the authority vested in her by 21 U.S.C. 823 and 824 and 28 CFR 0.100(b) and 0.104, hereby orders that DEA Certificate of Registration, BM0654005, issued to Anne C. Mason M.D., be, and it hereby is, revoked. The Deputy Administrator further orders that any pending applications for renewal or modification of the aforementioned registration be, and it hereby is, needed. This order is effective November 1, 2004.

Dated: September 8, 2004.
Michele M. Leonhart,
Deputy Administrator.

[FR Doc. 04-21963 Filed 9-29-04; 8:45 am]

BILLING CODE 4410-09-M